DEPARTMENT OF STATE

[Public Notice # 4710]

Industry Advisory Panel: Meeting Notice

The Industry Advisory Panel of Overseas Buildings Operations will meet on Thursday, July 15, 2004 from 9:45 until 11:45 a.m. and reconvene at 1 until 3:30 p.m. Eastern Standard Time. The meeting will be held in conference room 1105 at the Department of State, 2201 C Street NW (entrance on 23rd Street), Washington, DC. The majority of the meeting is devoted to an exchange of ideas between the Department's Bureau of Overseas Buildings Operations senior management and the panel members on design, operations and building maintenance. Members of the public are asked to kindly refrain from joining the discussion until Director Williams opens the discussion to the public.

Because seating in Conference Room 1105 is limited to 50 seats for members of the public, we ask that you kindly e-mail your information. If you would like to attend the meeting, please respond by e-mail IAPR@STATE.GOV prior to July 5th. Your response should include your date of birth and social security number, which will be used by Diplomatic Security to issue a temporary pass to enter the building.

Should you have any questions, please contact me at PinzinoLE3@state.gov (tel: (703) 875-6872) or Michael Sprague at Spraguema@state.gov at (703) 875-7173.

Dated: June 4, 2004.
Charles E. Williams,
Director/Chief Operating Officer, Overseas Buildings Operations, Department of State.

[FR Doc. 04-13795 Filed 6-17-04; 8:45 am]

BILLING CODE 4710-24-P